DEPARTMENT OF THE INTERIOR

Bureau of Reclamation

State of Nevada Assembly Bill 380, Newlands Project, NV

AGENCY: Bureau of Reclamation, Interior.

ACTION: Notice of intent to prepare an environmental document (environmental assessment or environmental impact statement) and notice of public meetings.

SUMMARY: Pursuant to Section 102(2)(C) of the National Environmental Policy Act (NEPA) of 1969, as amended, the Bureau of Reclamation (Reclamation) proposes to prepare an environmental document. The environmental document is for the purpose of evaluating the effects of Reclamation providing approximately $7,000,000 of Federal funds over a period of years, along with monies from other entities, to partially support the Newlands Project Water Rights fund, a program for the acquisition and retirement of 6,500 acres of surface water rights in Reclamation's Newlands Project. This action is outlined in the State of Nevada Assembly Bill Number 380 (A.B. 380).

At present it is not clear whether the scope of the action and anticipated project impacts will require preparation of an environmental impact statement (EIS) instead of an environmental assessment (EA). However, to ensure the timely and appropriate level of NEPA compliance and to limit potential future delays to the project schedule, Reclamation is proceeding as if the project impacts can be adequately analyzed through preparation of an EA. Reclamation will reevaluate the need for an EIS after obtaining written and oral comments on the project scope, alternatives and environmental impacts, and after Reclamation's evaluation of potential impacts of the proposed project. Reclamation will publish a notice of change if a decision is made to prepare an EIS rather than an EA. However, the scoping process to be conducted will suffice for either course of action.

There are no known environmental justice issues associated with the proposed action. The water acquisition program supported by Reclamation funds will avoid, where possible, any adverse impacts to Indian Trust Assets. If adverse impacts cannot be avoided, appropriate mitigation or compensation will be provided.

DATES: Four scoping meetings will be held to solicit comments from interested parties to assist in determining the scope of the environmental analysis and to identify the significant issues related to this proposed action. The meeting dates are:

• Monday, May 8, 2000, at 7:00 p.m., in Fallon, Nevada.

• Tuesday, May 9, 2000, at 7:00 p.m., in Fernley, Nevada.

• Wednesday, May 10, 2000, at 7:00 p.m., in Nixon, Nevada.

• Thursday, May 11, 2000, at 7:00 p.m., in Carson City, Nevada.

Written comments on the scope of the environmental documents should be submitted by May 25, 2000, to the address listed below.

ADDRESSES: The meeting locations are as follows:

• Fallon—Fallon Convention Center, 100 Campus Way, Fallon, NV 89406; telephone: (775) 423-4556.

• Fernley—Fernley Town Complex, 595 Silver Lace Blvd., Suite 117, Fernley, NV 89408; telephone: (775) 575-5455.

• Nixon—Pyramid Lake Paiute Tribe Council Chambers, 208 Capital Hill (Highway 447) Nixon, NV 89424; telephone: (775) 574-1000.

• Carson City—Nevada State Library, 100 N Stewart Street, Conference Room A, Carson City, NV 89701; telephone: (775) 684-3313.

Written comments on the scope of the environmental documents should be submitted to Caryn Huntt DeCarlo, Environmental Specialist, Bureau of Reclamation, Lahontan Basin Area Office, Attention: LO-450, P.O. Box 640, Carson City, NV 89702.

Our practice is to make comments, including names and home addresses of respondents, available for public review. Individual respondents may request that we withhold their home address from public disclosure, which we will honor to the extent allowable by law. There also may be circumstances in which we would withhold a respondent's's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Caryn Huntt DeCarlo at telephone and TDD: (775) 882-3436, Lahontan Basin Area Office, Attention: LO-450, P.O. Box 640, Carson City, NV 89702.

SUPPLEMENTARY INFORMATION: The purpose of the Newlands Project Water Rights Fund program is to provide a mechanism for meeting some of the goals outlined in A.B. 380 through acquisition and retirement of 6,500 acres of surface water rights. The goals of A.B. 380 include resolving certain administrative and judicial proceedings involving challenges to Newlands Project and Truckee Meadows water rights. These proceedings are time consuming and costly for all parties involved, and the need for resolution is the purpose of A.B. 380 and the water rights acquisition and retirement program.

Special Services

Persons requiring any special services should contact Caryn Huntt DeCarlo at (775) 882-3436. Please notify Ms. Huntt DeCarlo as far in advance of the particular meeting as possible, but no later than 3 working days prior to the meeting to enable Reclamation to secure the services. If a request cannot be honored, the requester will be notified.

Dated: April 14, 2000.
Frank Michny,
Regional Environmental Officer.

[FR Doc. 00-9894 Filed 4-19-00; 8:45 am]

BILLING CODE 4310-94-P